FEDERAL ELECTION COMMISSION

Sunshine Act Meeting

AGENCY: Federal Election Commission.

CORRECTION: The open meeting for February 5, 2004, will begin at 10 a.m.

DATE AND TIME: Thursday, February 5, 2004, 10 a.m.

PLACE: 999 E Street, NW., Washington, DC (ninth floor).

STATUS: This meeting will be open to the public.

FOR FURTHER INFORMATION CONTACT: Robert W. Biersack, Acting Press Officer, Telephone: (202) 694-1220.

Mary W. Dove,
Secretary of the Commission.

[FR Doc. 04-2537 Filed 2-2-04; 3:03 pm]

BILLING CODE 6715-01-M